DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is revising the entry of a person that has been placed on OFAC's Specially Designated Nationals and Blocked Persons (SDN) List. All property and interests in property subject to U.S. jurisdiction of this person remain blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://ofac.treasury.gov).

Notice of OFAC Action(s)

On September 25, 2023, OFAC removed the following entry from the SDN List.

Entity

1. JOINT STOCK COMPANY STAR (a.k.a. “AO ODK STAR”; a.k.a. “JSC UEC STAR”), ul. Kuibysheva D. 140A, Perm 614990, Russia; Tax ID No. 5904100329 (Russia); Registration Number 1025900895712 (Russia) [RUSSIA-EO14024].

On September 25, 2023, OFAC combined the information in the entry above with a separate existing entry on the SDN List for the same entity by publishing the following revised entry on the SDN List.

Entity

1. JOINT STOCK COMPANY STAR (a.k.a. AO ODK-STAR; a.k.a. JSC UEC STAR), Ul. Kuibysheva D. 140A, Perm 614990, Russia; website www.ao-star.ru; Additional Sanctions Information—Subject to Secondary Sanctions; Organization Established Date 1943; Tax ID No. 5904100329 (Russia); Business Registration Number 1025900895712 (Russia) [NPWMD] [IFSR] [RUSSIA-EO14024] (Linked To: IRAN AIRCRAFT MANUFACTURING INDUSTRIAL COMPANY).

Designated pursuant to section 1(a)(i) of Executive Order 14024 of April 15, 2021, “Blocking Property With Respect To Specified Harmful Foreign Activities of the Government of the Russian Federation,” 86 FR 20249, 3 CFR, 2021 Comp., p. 542 (Apr. 15, 2021) on September 14, 2023 for operating or having operated in the manufacturing sector of the Russian Federation economy.

Designated pursuant to section 1(a)(iii) of Executive Order 13382 of June 28, 2005, “Blocking Property of Weapons of Mass Destruction Proliferators and Their Supporters,” 70 FR 38567, 3 CFR, 2005 Comp., p. 170 (E.O. 13382) on September 19, 2023 for having provided, or attempted to provide, financial, material, technological or other support for, or goods or services in support of, IRAN AIRCRAFT MANUFACTURING INDUSTRIAL COMPANY, a person whose property and interests in property are blocked pursuant to E.O. 13382.

Dated: October 27, 2023.
Bradley T. Smith,
Director, Office of Foreign Assets Control, U.S. Department of the Treasury.

[FR Doc. 2023-24051 Filed 10-31-23; 8:45 am]

BILLING CODE 4810-AL-P